FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Confianca Cargo & Logistics, LLC, 3545 NW 58th Street, Miami, FL 33142, Officers: Jose Tarcisio De Oliveira, Exec. Director (Qualifying Individual), Helieta M. Correia, General Manager

4 A's Cargo, Inc., 22815 S. Figueroa Street, Carson, CA 90745, Officers: Monina F. Manalo, Vice President, (Qualifying Individual), Rolando G. Tanaleon, President

Fleet Logistics Inc., 21008 Silver Cloud Drive, Diamond Bar, CA 91765, Officer: Jerry Fan, CEO, (Qualifying Individual)

Intlmove Inc., 1880 N.E. 170th Street, N. Miami Beach, FL 33162, Officer: Laurie A. Olson, Dir. Of Operations, (Qualifying Individual)

Liner American Services Corp., dba American Liner Services, dba L.A.S., 1812 NW 82nd Avenue, Miami, FL 33126, Officers: Luis Andres Sara, President, (Qualifying Individual), Pablo Javier Silva, Vice President

Yu Dong Logistics, Inc., 690 Knox Street, Suite 220, Torrance, CA 90502, Officer: Bong Cheon Kim, President, (Qualifying Individual)

Non-Vessel—Operating Common Carrier and Ocean Freight Forwarder Transportation Intermediary Applicants:

Riverside Logistics, Inc., 8014 Midlothian Tpke, Suite 319, Richmond, VA 23235, Officers: Glenn R. Clark, Vice President (Qualifying Individual), Keith E. Hamlett, President

Cohesion Freight (USA) Inc., 175-01 Rockaway Blvd., Jamaica, NY 11434, Officers: Michael Lee, Vice President, (Qualifying Individual), David Chau, President

Oceanair Logistics Corp., 10925 NW 27th Street, Suite 103, Miami, FL 33172, Officers: Lorenzo J. Lopez, Vice President, (Qualifying Individual), Carlos Antonio Vasquez, President

Sun Express Int'l Inc., 147-48 182nd Street, 2nd Floor, Jamaica, NY 11413, Officer: Kam On Lo, President, (Qualifying Individual)

Ocean Freight Forwarder—Ocean Transportation Intermediary Applicants:

LTR Associated Enterprises, Inc., dba RC Export Packers, 5822 East Ridgemont Court, Orange, CA 92869, Officers: Lawrence R. Blashaw, Vice President, (Qualifying Individual), Patricia D. Blashaw, President

Ship Overseas, Inc., 7968 Arjons Drive, Suite 111, San Diego, CA 92126, Officer: Ivor Friedman, President, (Qualifying Individual)

Dated: January 7, 2005.
Bryant L. VanBrakle,
Secretary.

[FR Doc. 05-646 Filed 1-11-05; 8:45 am]

BILLING CODE 6730-01-P